DEPARTMENT OF TRANSPORTATION

Federal Aviation Administration

Twenty Third Meeting: RTCA Special Committee 217—Aeronautical Databases Joint With EUROCAE WG-44—Aeronautical Databases

AGENCY: Federal Aviation Administration (FAA), U.S. Department of Transportation (DOT).

ACTION: Notice of RTCA Special Committee 217—Aeronautical Databases Joint with EUROCAE WG-44—Aeronautical Databases.

SUMMARY: The FAA is issuing this notice to advise the public of a meeting of RTCA Special Committee 217—Aeronautical Databases being held jointly with EUROCAE WG-44—Aeronautical Databases.

DATES: The meeting will be held March 2-6 2015 from 9:00 a.m. to 5:00 p.m.

ADDRESSES: The meeting will be hosted by Honeywell, V parku 16 148 00 Prague 4 Czech Republic.

FOR FURTHER INFORMATION CONTACT: Sophie Bousquet, SBousquet@rtca.org, 202-330-0663 or The RTCA Secretariat, 1150 18th Street NW., Suite 910, Washington, DC 20036, or by telephone at (202) 833-9339, fax at (202) 833-9434, or Web site at http://www.rtca.org. Pre-registration for the meeting is required to access Honeywell's Prague facility. Please send the following information to Scott Roesch (Scott.Roesch@Honeywell.com) and copy Sophie Bousquet (sbousquer@rtca.org) by February 13. 2015: Name, Company, Nationality, Passport Number and Expiration Date.

SUPPLEMENTARY INFORMATION: Pursuant to section 10(a) (2) of the Federal Advisory Committee Act (Pub. L. 92-463, 5 U.S.C., App.), notice is hereby given for a meeting of RTCA Special Committee 217—Aeronautical Databases held jointly with EUROCAE WG-44—Aeronautical Databases. The agenda will include the following:

Monday, March 2nd

• Opening Plenary Session

• Co-Chairmen's remarks, introductions and Housekeeping

• Approve minutes from 22nd meeting

• Review and approve meeting agenda for 23rd meeting

• Review of joint WG-1/WG-2 Action Items

Tuesday, March 3rd through Thursday March 5th

• Working Group One (WG1)—Rev DO-200A—Stephane Dubet

○ DO-200B (ED-76A) Open Consultation/FRAC resolution

○ Overview of comments received (by FRAC Preparation Team)

• Working Group Two (WG2)—DO-272/DO-276/DO-291—John Kasten

○ Final work on Documents and review before FRAC

○ Schedule for FRAC release and associated actions

Friday Morning, March 6th

• Approval of Rev DO-200A (ED-76) for the PMC/TAC-Council

• Approval of Rev DO-272/DO-276/DO-291 for FRAC—Open Consultation

• Working arrangements for the remaining work and Review of action items

• Next meetings, dates and locations

• Any other business and Adjourn

Pre-registration for the meeting itself is required, if you have not already done so, please provide your information to Sophie Bousquet, sbousquet@rtca.org. Persons wishing to present statements or obtain information should contact the person listed in the FOR FURTHER INFORMATION CONTACT section. Members of the public may present a written statement to the committee at any time.

Issued in Washington, DC, on January 8, 2015.
Mohannad Dawoud,
Management Analyst, Program Oversight and Administration, ANG-A15, Federal Aviation Administration.

[FR Doc. 2015-00469 Filed 1-13-15; 8:45 am]

BILLING CODE 4910-13-P